DEPARTMENT OF DEFENSE

Office of the Secretary

Defense Business Board; Notice of Advisory Committee Meeting

AGENCY: Department of Defense, DoD.

ACTION: Notice of Advisory Committee Meeting.

SUMMARY: The Defense Business Board (DBB) will meet in open session on Wednesday, November 17, 2004, at the Pentagon, Washington, DC from 1000 until 1145. The mission of the DBB is to advise the Senior Executive Council (SEC) and the Secretary of Defense on effective strategies for implementation of best business practices of interest to the Department of Defense. At this meeting, the Board's Acquisition, Human Resources, and Financial Management related task groups will deliberate on their preliminary findings and recommendations related to tasks assigned earlier this year.

DATES: Wednesday, November 17, 2004, 1000 to 1145 hrs.

FOR FURTHER INFORMATION CONTACT: Members of the public who wish to attend the meeting must contact the Defense Business Board no later than Wednesday, November 10th for further information about admission as seating is limited. Additionally, those who wish to make oral comments or deliver written comments should also request to be scheduled, and submit a written text of the comments by Wednesday, November 10th to allow time for distribution to the Board members prior to the meeting. Individual oral comments will be limited to five minutes, with the total oral comment period not exceeding thirty minutes.

The DBB may be contacted at: Defense Business Board, 1100 Defense Pentagon, room 2E314, Washington, DC 20301-1100, via e-mail at DBB@osd.pentagon.mil, or via phone at (703) 614-8586.

Jeannette Owings-Ballard,
OSD Federal Register Liaison Officer, Department of Defense.

[FR Doc. 04-23675 Filed 10-21-04; 8:45 am]

BILLING CODE 5001-06-M